DEPARTMENT OF TRANSPORTATION

National Highway Traffic Safety Administration

Petition for Exemption From the Federal Motor Vehicle Theft Prevention Standard; Chrysler

AGENCY: National Highway Traffic Safety Administration (NHTSA), Department of Transportation (DOT).

ACTION: Grant of petition for exemption.

SUMMARY: This document grants in full the Chrysler Group LLC (Chrysler) petition for exemption of the Fiat 500 vehicle line in accordance with 49 CFR Part 543, Exemption From Vehicle Theft Prevention Standard. This petition is granted because the agency has determined that the antitheft device to be placed on the line as standard equipment is likely to be as effective in reducing and deterring motor vehicle theft as compliance with the parts-marking requirements of 49 CFR Part 541, Federal Motor Vehicle Theft Prevention Standard.

DATES: The exemption granted by this notice is effective beginning with the 2012 Model Year (MY).

FOR FURTHER INFORMATION CONTACT: Ms. Deborah Mazyck, International Policy, Fuel Economy and Consumer Programs, NHTSA, W43-443, 1200 New Jersey Avenue, SE., Washington, DC 20590. Ms. Mazyck's phone number is (202) 366-0846. Her fax number is (202) 493-2990.

SUPPLEMENTARY INFORMATION: In a petition dated June 16, 2010, Chrysler requested an exemption from the parts-marking requirements of the Theft Prevention Standard (49 CFR Part 541) for the Fiat 500 vehicle line, beginning with MY 2012. The petition requested an exemption from parts-marking requirements pursuant to 49 CFR 543, Exemption From Vehicle Theft Prevention Standard, based on the installation of an antitheft device as standard equipment for the entire vehicle line.

Under Section § 543.5(a), a manufacturer may petition NHTSA to grant exemptions for one of its vehicle lines per year. Chrysler petitioned the agency to grant an exemption for its Fiat 500 vehicle line beginning with MY 2012. In its petition, Chrysler provided a detailed description and diagram of the identity, design, and location of the components of the antitheft device for the new vehicle line. Chrysler will install the Sentry Key Immobilizer System (SKIS) antitheft device as standard equipment on the vehicle line. The major components of the SKIS device consist of: A Powertrain Control Module (PCM), a Totally Integrated Power Module (TIPM), a Sentry Key Remote Entry Module (SKREEM), a transponder key fob and an ElectroMechanical Instrument Cluster (EMIC) which controls the telltale function only. According to Chrysler, all of these components work collectively to perform the immobilizer function. Chrysler also stated that its SKIS device does not provide a visible or audible indication of unauthorized vehicle entry (i.e., flashing lights or horn alarm).

Chrysler stated that the SKIS device provides passive vehicle protection by preventing the engine from operating unless a valid electronically encoded key is detected in the ignition lock cylinder. According to Chrysler, the immobilizer feature is activated when the key is removed from the ignition lock cylinder. Only a valid key inserted into the ignition lock cylinder will allow the vehicle to start and continue to run.

Chrysler stated that the Sentry Key Immobilizer Module (SKIM), also known as the Sentry Key Remote Entry Module/SKREEM, or the Body Control Module/BCM are integral to the Body Computer Module (BCM) on the Fiat 500 vehicle line. Chrysler also stated that the BCM contains a radio frequency (RF) transceiver and microprocessor that receives RF signals from the Sentry Key transponder to the keyfob through a tuned antenna. According to Chrysler, the BCM also serves as the Remote Keyless Entry (RKE) RF receiver. Specifically, Chrysler stated that the SKIS device uses radio frequency communication to obtain confirmation that the key in the ignition switch is a valid transponder key for operating the vehicle. To avoid any perceived delay when starting the vehicle with a valid key and to prevent unburned fuel from entering the exhaust, the engine is permitted to run for no more than 2 seconds if an invalid key is used. Chrysler stated that when the ignition switch is turned on, the BCM transmits a signal to the transponder in the key and waits for a response from the transponder. If the response identifies the key as invalid, or if no response is received from the transponder key, Chrysler stated that the BCM sends an invalid key message to the Powertrain Control Module (PCM), and the PCM will disable engine operation (after the initial 2-second run) based upon the status of the BCM messages. Chrysler further stated that only six consecutive invalid vehicle start attempts would be permitted and all other attempts would be locked out.

Chrysler stated that it will also incorporate an unauthorized vehicle start telltale light into the device that will operate as a security indicator in the ElectroMechanical Instrument Cluster (EMIC). According to Chrysler, the telltale will alert the owner that an unauthorized vehicle start attempt has been made. Chrysler stated that upon an unauthorized start attempt, the telltale will flash on and off when the ignition switch is turned to the “ON” position. Chrysler stated that while the telltale acts as a security indicator, it also acts as a diagnostic indicator. Chrysler stated that if the SKREEM detects a system malfunction and/or the SKIS device becomes inoperative, the security indicator will stay on. However, if the SKREEM detects an invalid key or if a key transponder-related fault exists, the security indicator will flash.

In addressing the specific content requirements of 543.6, Chrysler provided information on the reliability and durability of the device. Chrysler conducted tests based on its own specified standards and stated its belief that the device meets the stringent performance standards prescribed. Specifically, Chrysler stated that its device must demonstrate a minimum of 95 percent reliability with 90 percent confidence. In addition to the design and production validation test criteria, Chrysler stated that the SKIS device also undergoes a daily short term durability test and 100 percent of its systems undergo a series of three functional tests for durability prior to being shipped from the supplier to the vehicle assembly plant for installation in its vehicles.

Chrysler also stated that each ignition key used in the SKIS device has an integral transponder chip included on the circuit board beneath the cover of the integral Remote Keyless Entry (RKE) transmitter. Chrysler further stated that in addition to having to be cut to match the mechanical coding of the ignition lock cylinder and programmed for operation of the RKE system, each new Sentry Key has a unique transponder identification code that is permanently programmed into it by the manufacturer, and must be programmed into the SKREEM to be recognized by the SKIS device as a valid key. Chrysler stated that once a transponder key has been programmed to a particular vehicle, it cannot be used on any other vehicle.

Chrysler stated that while there is no theft data available for the Fiat 500 because it is a new vehicle line introduction, the theft rate experience of the Jeep Grand Cherokee which has been installed with the SKIS immobilizer device since MY 1999 indicates that it is projected to have a theft rate lower than the median theft rate. Chrysler stated that NHTSA's theft rate data for the Jeep Grand Cherokee indicates that the inclusion of a standard immobilizer system has resulted in a 52.3 percent net average reduction in vehicle thefts for the Jeep Grand Cherokee vehicle line. The average theft rate for the Jeep Grand Cherokee vehicle for four model years prior to installation of an immobilizer device as standard equipment (1995-1998) was 5.3574, which is significantly higher than the 1990/1991 median theft rate of 3.5826. However, the average theft rate for the six model years after installation of the standard immobilizer device (1999-2005) was 2.5492, which is significantly lower than the median. The Jeep Grand Cherokee vehicle line was granted an exemption from the parts-marking requirements beginning with MY 2004. Chrysler stated that it expects Fiat 500 vehicles equipped with standard ignition immobilizer systems to mirror the results achieved by the Jeep Cherokee vehicles when ignition immobilizer devices were included as standard equipment.

Based on the supporting evidence submitted by Chrysler on the Jeep Grand Cherokee, the agency believes that the antitheft device for the Fiat 500 vehicle line is likely to be as effective in reducing and deterring motor vehicle theft as compliance with the parts-marking requirements of the Theft Prevention Standard (49 CFR 541). The agency concludes that the device will provide four of the five types of performance listed in § 543.6(a)(3): Promoting activation; preventing defeat or circumvention of the device by unauthorized persons; preventing operation of the vehicle by unauthorized entrants; and ensuring the reliability and durability of the device.

Pursuant to 49 U.S.C. 33106 and 49 CFR 543.7 (b), the agency grants a petition for exemption from the parts-marking requirements of Part 541, either in whole or in part, if it determines that, based upon supporting evidence, the standard equipment antitheft device is likely to be as effective in reducing and deterring motor vehicle theft as compliance with the parts-marking requirements of Part 541. The agency finds that Chrysler has provided adequate reasons for its belief that the antitheft device for the Fiat 500 vehicle line is likely to be as effective in reducing and deterring motor vehicle theft as compliance with the parts-marking requirements of the Theft Prevention Standard (49 CFR Part 541). This conclusion is based on the information Chrysler provided about its device.

For the foregoing reasons, the agency hereby grants in full Chrysler's petition for an exemption for the MY 2012 Fiat 500 vehicle line from the parts-marking requirements of 49 CFR Part 541. The agency notes that 49 CFR Part 541, Appendix A-1, identifies those lines that are exempted from the Theft Prevention Standard for a given model year. 49 CFR Part 543.7(f) contains publication requirements with respect to the disposition of all Part 543 petitions. Advanced listing, including the release of future product nameplates, the beginning model year for which the petition is granted and a general description of the antitheft device is necessary in order to notify law enforcement agencies of new vehicle lines exempted from the parts-marking requirements of the Theft Prevention Standard.

If Chrysler decides not to use the exemption for this vehicle line, it must formally notify the agency. If such a decision is made, the vehicle line must be fully marked as required by 49 CFR Parts 541.5 and 541.6 (marking of major component parts and replacement parts).

NHTSA notes that if Chrysler wishes in the future to modify the device on which this exemption is based, the company may have to submit a petition to modify the exemption. Part 543.7(d) states that a Part 543 exemption applies only to vehicles that belong to a line exempted under this part and equipped with the anti-theft device on which the line's exemption is based. Further, § 543.9(c)(2) provides for the submission of petitions to modify an exemption to permit the use of an antitheft device similar to but differing from the one specified in that exemption.

The agency wishes to minimize the administrative burden that Part 543.9(c)(2) could place on exempted vehicle manufacturers and itself. The agency did not intend Part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: August 26, 2010.
Joseph S. Carra,
Acting Associate Administrator for Rulemaking.

[FR Doc. 2010-21758 Filed 8-30-10; 8:45 am]

BILLING CODE 4910-59-P